DEPARTMENT OF THE INTERIOR

National Park Service

Fire Management Plan, Final Environmental Impact Statement, Chiricahua National Monument, Arizona

AGENCY: National Park Service, Department of the Interior.

ACTION: Notice of Availability of the Final Environmental Impact Statement for the Fire Management Plan, Chiricahua National Monument.

SUMMARY: Pursuant to National Environmental Policy Act of 1969, 42 U.S.C. 4332(C), the National Park Service announces the availability of a Final Environmental Impact Statement for the Fire Management Plan, Chiricahua National Monument, Arizona.

DATES: The National Park Service will execute a Record of Decision (ROD) no sooner than 30 days following publication by the Environmental Protection Agency of the Notice of Availability of the Final Environmental Impact Statement.

ADDRESSES: Information will be available for public inspection in the office of the Superintendent, and at the following locations: Alan Whalon, Superintendent, 13063 E. Bonita Canyon Road, Willcox, AZ 85643; Chiricahua National Monument Web site http://www.nps.gov/chir.

FOR FURTHER INFORMATION CONTACT: Carrie Dennett, Ecologist, 13063 E. Bonita Canyon Road, Willcox, AZ 85643. (520) 824-3560 x308. Carrie_Dennett@nps.gov.

Dated: April 19, 2005.
Rick Frost,
Acting Regional Director, Intermountain Region, National Park Service.

[FR Doc. 05-12536 Filed 6-23-05; 8:45 am]

BILLING CODE 4310-70-P